DEPARTMENT OF HEALTH AND HUMAN SERVICES

National Institutes of Health

Center for Scientific Review; Amended Notice of Meeting

Notice is hereby given of a change in the meeting of the Macromolecular Structure and Function C Study Section, February 8, 2018, 8:00 a.m. to February 9, 2018, 5:00 p.m., The Darcy Hotel, 1515 Rhode Island Avenue, Washington, DC 20005 which was published in the Federal Register on January 11, 2018, V 83 Pg. 1376.

The meeting will be held February 8, 2018 at 8:00 a.m. and end 8:00 p.m. The meeting location remains the same. The meeting is closed to the public.

Dated: January 29, 2018.
Melanie J. Pantoja,
Program Analyst, Office of Federal Advisory Committee Policy.

[FR Doc. 2018-02033 Filed 1-31-18; 8:45 am]

BILLING CODE 4140-01-P